NUCLEAR REGULATORY COMMISSION

[Dockets 72-4 and 72-40]

Duke Energy Corporation, Oconee Nuclear Site; Issuance of Environmental Assessment and Finding of No Significant Impact Regarding the Proposed Exemption From Certain Requirements of 10 CFR Part 72

The U.S. Nuclear Regulatory Commission (NRC or Commission) is considering issuance of an exemption, pursuant to 10 CFR 72.7, from the provisions of 10 CFR 72.212(a)(2) and 72.214 to Duke Energy Corporation (Duke). The requested exemption would allow Duke to store burnable poison rod assemblies (BPRAs) in the NUHOMS®-24P storage system at the Oconee Nuclear Site Independent Spent Fuel Storage Installation (ISFSI).

Environmental Assessment (EA)

Identification of Proposed Action

By letter dated August 30, 1999, Duke requested an exemption from the requirements of 10 CFR 72.212(a)(2) and 72.214 to store BPRAs in the NUHOMS®-24P storage system at the Oconee Nuclear Site ISFSI. Duke is a general licensee, authorized by NRC to use spent fuel storage casks approved under 10 CFR part 72, Subpart K. Furthermore, Duke is using the NUHOMS®-24P storage system design approved by NRC under Certificate of Compliance (CoC) No. 1004 to store only spent fuel at the ISFSI.

By exempting Duke from both 10 CFR 72.214 and 72.212(a)(2), Duke will be authorized to use its general license to store BPRAs in casks approved under part 72, as exempted. The proposed action before the Commission is whether to grant these exemptions under 10 CFR 72.7.

The ISFSI is located 30 miles west of Greenville, SC, on the Oconee Nuclear Power Plant site. The Oconee Nuclear Site ISFSI is an existing facility constructed for interim dry storage of spent nuclear fuel.

On July 26, 1999, the cask designer, Transnuclear West Inc. (TN West), submitted a CoC amendment request to NRC to address the storage of Babcock and Wilcox (B&W) 15x15 and Westinghouse 17x17 fuel assembly types with BPRAs. TN West provided additional information and revised calculations on November 29, 1999, in response to the NRC staff's request. The NRC staff has reviewed the application and determined that storing B&W 15x15 and Westinghouse 17x17 fuel assembly types with BPRAs in the NUHOMS®-24P storage system would have minimal impact on the design basis and would not be inimical to public health and safety.

Need for the Proposed Action

Duke has an imminent need to reduce the inventory of spent nuclear fuel assemblies at the Oconee Nuclear Site prior to an upcoming refueling activity that requires empty fuel storage locations in the spent fuel pool. Furthermore, Duke must load spent fuel containing BPRAs to accommodate the number of planned and potential refueling activities that require empty spent fuel storage locations scheduled for the first calendar quarter of 2000. Because the 10 CFR part 72 rulemaking to amend the CoC will not be completed prior to the date that Duke needs to begin loading the NUHOMS®-24P with fuel containing BPRAs, the NRC is granting this exemption based on the staff's technical review of information submitted by Duke and TN West.

Environmental Impacts of the Proposed Action

The potential environmental impact of using the NUHOMS®-24P storage system was initially presented in the Environmental Assessment (EA) for the Final Rule to add the NUHOMS®-24P to the list of approved spent fuel storage casks in 10 CFR 72.214 (59 FR 65898 (1994)). Furthermore, each general licensee must assess the environmental impacts of the specific ISFSI in accordance with the requirements of 10 CFR 72.212(b)(2). This section also requires the general licensee to perform written evaluations to demonstrate compliance with the environmental requirements of 10 CFR 72.104, “Criteria for radioactive materials in effluents and direct radiation from an ISFSI or MRS [Monitored Retrievable Storage Installation].”

The NUHOMS®-24P storage system is designed to mitigate the effects of design basis accidents that could occur during storage. Design basis accidents account for human-induced events and the most severe natural phenomena reported for the site and surrounding area. Postulated accidents analyzed for an ISFSI include tornado winds and tornado generated missiles, design basis earthquake, design basis flood, accidental cask drop, lightning effects, fire, explosions, and other incidents.

Special cask design features of the NUHOMS®-24P storage system include a horizontal canister system composed of a steel dry shielded canister (DSC), a reinforced concrete horizontal storage module (HSM) and a transfer cask (TC). The welded DSC provides confinement and criticality control for the storage and transfer of spent nuclear fuel. The concrete module provides radiation shielding while allowing cooling of the DSC and fuel by natural convection during storage. The TC is used for transferring the DSC from/to the spent fuel pool building to/from the HSM.

Considering the specific design requirements for each accident condition, the design of the cask would prevent loss of containment, shielding, and criticality control. Without the loss of either containment, shielding, or criticality control, the risk to public health and safety is not compromised.

The staff performed a detailed safety evaluation of the proposed exemption request and the CoC amendment request and found that the addition of the BPRAs to the B&W 15×15 and Westinghouse 17×17 fuel types does not reduce the safety margin. In addition, the staff has determined that the storage of BPRAs in the NUHOMS®-24P storage system does not pose any increased risk to public health and safety. Furthermore, the proposed action now under consideration would not change the potential environmental effects assessed in the initial rulemaking (59 FR 65898 (1994)).

Therefore, the staff has determined that there is no reduction in the safety margin nor significant environmental impacts as a result of storing B&W 15×15 or Westinghouse 17×17 fuel types with BPRAs in the NUHOMS®-24P storage system.

Alternative to the Proposed Action

The staff evaluated other alternatives involving removal of the BPRAs from the fuel assemblies and found that these alternatives produced a greater occupational exposure, increased handling and storage costs, and an increased environmental impact as a result of handling the BPRAs separately as low-level waste. The alternative to the proposed action would be to deny approval of the exemption and, therefore, require Duke to disassemble and store the BPRAs as low-level waste in separate containers.

Agencies and Persons Consulted

On January 24, 2000, the Division of Radiation Control, South Carolina Department of Health, was contacted about the EA for the proposed action and had no concerns.

Finding of No Significant Impact

The environmental impacts of the proposed action have been reviewed in accordance with the requirements set forth in 10 CFR part 51. Based upon the foregoing EA, the Commission finds that the proposed action of granting an exemption from 10 CFR 72.212(a)(2) and 72.214 so that Duke may store spent nuclear fuel containing BPRAs in the NUHOMS®-24P storage system will not significantly impact the quality of the human environment. Accordingly, the Commission has determined not to prepare an environmental impact statement for the proposed exemption.

For further details with respect to this exemption request, see the Duke exemption request dated August 30, 1999, which is docketed under 10 CFR part 72, Docket Nos. 72-4 and 72-40.

The exemption request is available for public inspection at the Commission's Public Document Room, 2120 L Street, NW, Washington, DC 20555.

Dated at Rockville, Maryland, this 2nd day of February 2000.
For the Nuclear Regulatory Commission.
E. William Brach,
Director, Spent Fuel Project Office, Office of Nuclear Material Safety and Safeguards.

[FR Doc. 00-3339 Filed 2-11-00; 8:45 am]

BILLING CODE 7590-01-P